GENERAL SERVICES ADMINISTRATION

[OMB Control No. 3090-0287; Docket 2015-0001; Sequence 10]

Office of Mission Assurance; Information Collection; Background Investigations for Child Care Workers

AGENCY: Office of Mission Assurance, General Services Administration (GSA).

ACTION: Notice of request for comments regarding an existing OMB information collection.

SUMMARY: Under the provisions of the Paperwork Reduction Act, the Regulatory Secretariat Division will be submitting to the Office of Management and Budget (OMB) a request to review and approve a previously approved information collection requirement regarding the collection of personal data for background investigations for child care workers accessing GSA owned and leased controlled facilities.

DATES: Submit comments on or before: August 10, 2015.

ADDRESSES: Submit comments identified by Information Collection 3090-0287, Background Investigations for Child Care Workers by any of the following methods:

• Regulations.gov: http://www.regulations.gov. Submit comments via the Federal eRulemaking portal by searching the OMB control number. Select the link “Submit a Comment” that corresponds with “Information Collection 3090-0287, Background Investigations for Child Care Workers”. Follow the instructions provided at the “Submit a Comment” screen. Please include your name, company name (if any), and “Information Collection 3090-0287, Background Investigations for Child Care Workers” on your attached document.

• Mail: General Services Administration, Regulatory Secretariat Division (MVCB), 1800 F Street NW., Washington, DC 20405. ATTN: Ms. Flowers/IC 3090-0287, Background Investigations for Child Care Workers.

Instructions: Please submit comments only and cite Information Collection 3090-0287, Background Investigations for Child Care Workers, in all correspondence related to this collection. All comments received will be posted without change to http://www.regulations.gov, including any personal and/or business confidential information provided.

FOR FURTHER INFORMATION CONTACT: Mr. Douglas Baker, Chief Security Officer, Office of Mission Assurance, GSA by telephone at 202-684-5005 or email at douglas.baker@gsa.gov.

SUPPLEMENTARY INFORMATION:

A. Purpose

Homeland Security Presidential Directive (HSPD) 12 “Policy for a Common Identification Standard for Federal Employees and Contractors” requires the implementation of a governmentwide standard for secure and reliable forms of identification for Federal employees and contractors. OMB's implementing instructions requires all contract employees requiring routine access to federally controlled facilities for greater than six (6) months to receive a background investigation. The minimum background investigation is the National Agency Check with Written Inquiries or NACI and the Office of Personnel Management offers a childcare NACI (CNACI).

However, there is no requirement in the law or HSPD-12 that requires child care employees to be subject to the NACI/CNACI since employees of child care providers are neither government employees nor government contractors. The child care providers are required to complete the criminal history background checks mandated in the Crime Control Act of 1990, Public Law 101-647, dated November 29, 1990, as amended by Public Law 102-190, dated December 5, 1991. These statutes require that each employee of a child care center located in a Federal building or in leased space must undergo a background check.

According to GSA policy, child care workers (as described above) will need to submit the following:

1. An original signed copy of a Basic National Agency Check Criminal History, GSA Form 176; and

2. Two sets of fingerprints on FBI Fingerprint Cards, for FD-87 and/or electronic prints from an enrollment center.

3. Electronically submit the e-qip (SF85) application for completion of the CNACI.

This is not a request to collect new information; this is a request to change the form that is currently being used to collect this information. The new GSA forms will be less of a public burden.

B. Annual Reporting Burden

Respondents: 1,200.

Responses per Respondent: 1.

Hours per Response: 1.

Total Burden Hours: 1,200.

C. Public Comments

Public comments are particularly invited on: Whether this collection of information is necessary and whether it will have practical utility; whether our estimate of the public burden of this collection of information is accurate, and based on valid assumptions and methodology; ways to enhance the quality, utility, and clarity of the information to be collected.

Obtaining Copies of Proposals: Requesters may obtain a copy of the information collection documents from the General Services Administration, Regulatory Secretariat Division (MVCB), 1800 F Street NW., Washington, DC 20405, telephone 202-501-4755. Please cite Background Investigations for Child Care Workers, in all correspondence.

Dated: June 3, 2015.
David A. Shive,
Acting Chief Information Officer.

[FR Doc. 2015-13995 Filed 6-8-15; 8:45 am]

BILLING CODE 6820-23-P